DEPARTMENT OF HOMELAND SECURITY

Coast Guard

33 CFR Part 117

[Docket No. USCG-2016-0338]

Drawbridge Operation Regulation; Willamette River, Portland, OR

AGENCY: Coast Guard, DHS.

ACTION: Notice of deviation from regulation.

SUMMARY: The Coast Guard has issued a temporary deviation from the operating schedule that governs the upper deck of the Steel Bridge across the Willamette River, mile 12.1, at Portland, OR. The deviation is necessary to accommodate the route of the annual Starlight Parade event. This deviation allows the upper deck of the Steel Bridge to remain in the closed-to-navigation position to allow for the safe movement of event participants.

DATES: This deviation is effective from 7 p.m. to 11:30 p.m. on June 4, 2016.

ADDRESSES: The docket for this deviation, [USCG-2016-0338] is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: TriMet Public Transit requested the upper deck of the Steel Bridge remain closed-to-navigation to accommodate the annual Starlight Parade event. The Steel Bridge crosses the Willamette River at mile 12.1 and is a double-deck lift bridge with a lower lift deck and an upper lift deck which operate independent of each other. When both decks are in the down position the bridge provides 26 feet of vertical clearance above Columbia River Datum 0.0. When the lower deck is in the up position the bridge provides 71 feet of vertical clearance above Columbia River Datum 0.0. The normal operating schedule for the Steel Bridge is in accordance with 33 CFR 117.897(c)(3)(ii). This deviation period is from 7 p.m. to 11:30 p.m. on June 4, 2016. The deviation allows the upper deck of the Steel Bridge to remain in the closed-to-navigation position and need not open for maritime traffic from 7 p.m. to 11:30 p.m. on June 4, 2016.

Waterway usage on this part of the Willamette River includes vessels ranging from commercial tug and barge to small pleasure craft. Vessels able to pass through the bridge in the closed positions may do so at anytime. The bridge will be able to open for emergencies, and there is no immediate alternate route for vessels to pass. The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the designated time period. This deviation from the operating regulations is authorized under 33 CFR 117.35.

Dated: April 20, 2016.
Steven M. Fischer,
Bridge Administrator, Thirteenth Coast Guard District.

[FR Doc. 2016-09629 Filed 4-25-16; 8:45 am]

BILLING CODE 9110-04-P